DEPARTMENT OF EDUCATION

Applications for New Awards; Transitioning Gang-Involved Youth to Higher Education Program

AGENCY: Office of Postsecondary Education, Department of Education.

ACTION: Notice.

SUMMARY: The Department of Education (Department) is issuing a notice inviting applications (NIA) for fiscal year (FY) 2023 for the Transitioning Gang-Involved Youth to Higher Education Program, Assistance Listing Number 84.116Y. This notice relates to the approved information collection under OMB control number 1894-0006.

DATES:

Applications Available: May 18, 2023.

Deadline for Transmittal of Applications: July 17, 2023.

Deadline for Intergovernmental Review: September 15, 2023.

ADDRESSES: For the addresses for obtaining and submitting an application, please refer to our Common Instructions for Applicants to Department of Education Discretionary Grant Programs, published in the Federal Register on December 7, 2022 (87 FR 75045), and available at www.federalregister.gov/d/2022-26554. Please note that these Common Instructions supersede the version published on December 27, 2021.

FOR FURTHER INFORMATION CONTACT: Jymece Seward, U.S. Department of Education, 400 Maryland Avenue SW, 5th floor, Washington, DC 20202-4260. Telephone: 202-453-6138. Email: Jymece.Seward@ed.gov.

If you are deaf, hard of hearing, or have a speech disability and wish to access telecommunications relay services, please dial 7-1-1.

SUPPLEMENTARY INFORMATION:

Full Text of Announcement

I. Funding Opportunity Description

Purpose of Program: The purpose of the Transitioning Gang-Involved Youth to Higher Education Program (TGIY) is to provide a funding opportunity for organizations that work directly with gang-involved youth to help such youth pursue higher education opportunities that will lead to certification or credentials. Such programs can include apprenticeships or other workforce preparation programs that promote job readiness upon completion of the program, while simultaneously providing essential wraparound services that include culturally competent social and emotional support.

Background: Recent research indicates that more than 1 million youth are estimated to be involved in some type of gang, crew, or other group.¹ Youth gang involvement can negatively impact behavioral and mental health. Evidence suggests that exposure to adverse childhood experiences (ACEs), which are described as potentially traumatic events that can have negative lasting effects on health and well-being, can have a cumulative effect on later behavior, including potential future criminal justice system involvement. The greater the number of ACEs experienced in adolescence, the greater the impact on mental health into adulthood.² Furthermore, Frisby-Osman and Wood found that a range of ACEs, such as familial experiences, exposure to delinquency and violent victimization, and mental health difficulties, have been linked to a risk of gang involvement.

¹ Pyrooz, D. and Sweeten, G. (2015). Gang Membership Between Ages 5 and 17 Years in the United States. Journal of Adolescent Health, 1-6.

² Frisby-Osman, S. and Wood, J. (2020). Rethinking How We View Gang Members: An Examination into Affective, Behavioral, and Mental Health Predictors of UK Gang-Involved Youth. Youth Justice (20) 1, 93-112.

Gang involvement has almost immediate negative effects on educational achievement. According to the research, gang-involved youth are 30 percent less likely to complete high school compared with their gang-avoiding peers. However, regarding postsecondary matriculation, gang-affiliated youth who earn a GED went to college at twice the rate of their gang-avoiding peers with a GED.³ In interviews, gang-involved youth enrolled in community colleges reported that low expectations and negative stereotypes were part of their schooling experience.⁴ Accordingly, through this grant opportunity, the Department seeks to improve access to postsecondary education and outcomes for gang-involved youth.

³ Pyrooz, D.C. (2014). From colors and guns to caps and gowns? The effect of gang membership on educational attainment. Journal of Research in Crime and Delinquency, 51(1), 56-87.

⁴ Gardenhire-Crooks, A., Collado, H., Martin, K., & Castro, A. (2010). Terms of engagement: Men of color discuss their experiences in community college. Oakland, CA: MDRC. Retrieved from: http://files.eric.ed.gov/fulltext/ED508982.pdf.

College access is a multistep process for all students, but is especially difficult for students from low-income, non-college-educated families. These families typically do not possess the valued forms of social or cultural capital needed to access the networks that help students prepare for college.⁵ Most schools that serve primarily low-income students are unable to provide adequate college advising or information about financial aid or to place students in the appropriate courses to increase their college readiness level.⁶ When college information is not available or frequently shared with high school students, their ability to build the necessary college knowledge and form a college-going identity is significantly weakened.

⁵ Tierney, W.G. (2009). Applying to college. Qualitative Inquiry, 15(1), 79-95.

⁶ Corwin, Z.B, Venegas, K.M., Oliverez, P.M., and Colyar, J.E. (2004). School counsel: How appropriate guidance affects college going. Urban Education, 39(4), 442-457.

Youth who are gang-involved may benefit from holistic support systems through which their schools provide culturally competent social and emotional support, their families are included in their educational efforts, and they receive employment and resources and support for accessing financial assistance.⁷ Because prior research has suggested that stable employment can reduce the potential for future criminal justice system involvement, this program encourages applicants to collaborate with other organizations to build and support pathways to education and careers for gang-involved youth.

⁷ Sharkey, J. (2015). How to Help Me Get Out of a Gang: Youth Recommendations to Family, School, Community, and Law Enforcement Systems. Research Gate, 64-100.

Community-based organizations are increasingly looking for institutional partners with which to collaborate.⁸ Community-academic partnerships are formed to work together toward shared goals to better reach and serve traditionally underserved populations. Partnerships can be expanded to include not only service delivery but also research and education. There can be many benefits to cross-sector partnerships relating to the shared work, including diverse perspectives and the combined expertise of academic partners and community knowledge.

⁸ Liederman, S., Furco, A., Zapf, J., and Gross, M. (2003). Building partnerships with college campuses: Community perspectives. Washington, DC: Council for Independent Colleges/The Consortium for the Advancement of Private Higher Education's Engaging Communities and Campuses Grant Program.

The intent of this program is to support partnerships of institutions of higher education and other organizations that are best prepared to provide the supports and services necessary, to enable underserved youth, including youth with disabilities, to transition into postsecondary programs that will allow them to pursue a certificate, degree, or other credential, and, in doing so, reduce the risk of future criminal justice system involvement.

Priorities: This notice contains one absolute priority, two competitive preference priorities, and two invitational priorities. The absolute priority and competitive preference priorities are from the Secretary's Supplemental Priorities and Definitions for Discretionary Grant Programs, published in the Federal Register on December 10, 2021 (86 FR 70612) (Supplemental Priorities).

Absolute Priority: For FY 2023 and any subsequent year in which we make awards from the list of unfunded applications from this competition, this priority is an absolute priority. Under 34 CFR 75.105(c)(3) we consider only applications that meet this priority.

The priority is:

Increasing Postsecondary Education Access, Affordability, Completion, and Post-Enrollment Success.

Projects that are designed to increase postsecondary access, affordability, completion, and success for underserved students by addressing one or more of the following priority areas:

(a) Increasing the number and proportion of underserved students who enroll in and complete postsecondary education programs, which may include strategies related to college preparation, awareness, application, selection, advising, counseling, and enrollment.

(b) Supporting the development and implementation of student success programs that integrate multiple comprehensive and evidence-based services or initiatives, such as academic advising, structured/guided pathways, career services, credit-bearing academic undergraduate courses focused on career, and programs to meet basic needs, such as housing, childcare and transportation, student financial aid, and access to technological devices.

(c) Increasing the number of individuals who return to the educational system and obtain a regular high school diploma, or its recognized equivalent for adult learners; enroll in and complete community college, college, or career and technical training; or obtain basic and academic skills, including English language learning, that they need to succeed in college—including community college—as well as career and technical education and/or the workforce.

Competitive Preference Priorities: For FY 2023 and any subsequent year in which we make awards from the list of unfunded applications from this competition, these priorities are competitive preference priorities. Under 34 CFR 75.105(c)(2)(i), we award up to an additional 10 points to an application for each competitive preference priority, depending on how well the application meets these priorities. Applicants may respond to one or both competitive preference priorities, for a total of up to 20 additional points.

These priorities are:

Competitive Preference Priority 1—Meeting Student Social, Emotional, and Academic Needs (Up to 10 points).

Projects that are designed to improve students' social, emotional, academic, and career development, with a focus on underserved students, through one or more of the following priority areas:

(a) Creating a positive, inclusive, and identity-safe climate at institutions of higher education through one or more of the following activities:

(1) Fostering a sense of belonging and inclusion for underserved students. (Up to 2 points)

(2) Implementing evidence-based practices for advancing student success for underserved students. (Up to 2 points)

(3) Providing evidence-based professional development opportunities designed to build asset-based mindsets for faculty and staff on campus and that are inclusive with regard to race, ethnicity, culture, language, and disability status. (Up to 2 points)

(b) Fostering partnerships, including across government agencies (e.g., housing, human services, employment agencies), local educational agencies, community-based organizations, adult learning providers, and postsecondary education institutions, to provide comprehensive services to students and families that support students' social, emotional, mental health, and academic needs, and that are inclusive with regard to race, ethnicity, culture, language, and disability status. (Up to 4 points)

Competitive Preference Priority 2—Strengthening Cross-Agency Coordination and Community Engagement To Advance Systemic Change (Up to 10 points).

Projects that are designed to take a systemic evidence-based approach to improving outcomes for underserved students by coordinating efforts with Federal, State, or local agencies, or community-based organizations, that support students, to address one or both of the following:

(a) Justice policy. (Up to 5 points)

(b) College readiness. (Up to 5 points)

Invitational Priorities: For FY 2023 and any subsequent year in which we make awards from the list of unfunded applications from this competition, these priorities are invitational priorities. Under 34 CFR 75.105(c)(1), we do not give an application that meets these invitational priorities a competitive or absolute preference over other applications.

These priorities are:

Invitational Priority 1—Organizations With a Demonstrated Record of Helping Gang-involved Youth Access Postsecondary Education.

Projects proposed by entities with prior experience working directly with gang-involved youth to help such youth pursue higher education opportunities. For the purpose of the invitational priorities, gang-involved youth means an individual, between the ages 14 and 24, who may participate in activities of a violent gang or who may face an increased risk of gang exposure due to proximity to communities with gang activity and/or gang-related conditions (e.g., community violence, vandalism, assault, gun violence, illegal drug trade, homicide) or other risk factors (e.g., domestic violence, child physical and sexual abuse, academic failure, low educational aspirations).

Invitational Priority 2—Promoting Equity in Student Access to Educational Resources and Opportunities.

Projects that are designed to promote educational equity and adequacy in resources and opportunity for gang-involved youth—

(a) In one or more of the following educational settings:

(1) High school.

(2) Career and technical education programs.

(3) Alternative schools and programs.

(4) Juvenile justice system or correctional facilities.

(b) That examines the sources of inequity and inadequacy and implement responses, and that may include one or more of the following:

(1) Improving the quality of educational and other evidence-based rehabilitative programs in juvenile justice facilities (such as detention facilities and secure and non-secure placements) or adult correctional facilities.

(2) Supporting re-entry of, and improving long-term outcomes for, youth and adults after release from juvenile justice system or correctional facilities by linking youth and adults to appropriate support, education, vocational rehabilitation, or workforce training programs.

Definitions: These definitions apply to the priorities and the selection criteria for this competition. The definitions of “demonstrates a rationale,” “evidence-based,” “logic model,” “project component,” and “relevant outcome” are from 34 CFR 77.1. The definition of “underserved student” is from the Supplemental Priorities.

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

Evidence-based means the proposed project component is supported by evidence that demonstrates a rationale.

Logic model (also referred to as theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application User Guide, available at https://ies.ed.gov/ncee/rel/regions/pacific/pdf/ELMUserGuideJune2014.pdf.

Other sources include: https://ies.ed.gov/ncee/edlabs/regions/pacific/pdf/REL2014025.pdf, https://ies.ed.gov/ncee/edlabs/regions/pacific/pdf/REL2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a student (which may include students in postsecondary education or career and technical education, and adult learners, as appropriate) in one or both of the following subgroups:

(a) A disconnected youth.

(b) A student impacted by the justice system, including a formerly incarcerated student.

Program Authority: 20 U.S.C. 1138-1138d; the Explanatory Statement accompanying Division H of the Consolidated Appropriations Act, 2023 (Pub. L. 117-328).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 86 apply to institutions of higher education only.

II. Award Information

Type of Award: Discretionary grant.

Estimated Available Funds: $4,950,000.

Contingent upon the availability of funds and the quality of applications, we may make additional awards in subsequent years from the list of unfunded applications from this competition.

Estimated Range of Awards: $900,000 to $990,000.

Estimated Average Size of Awards: $990,000.

Maximum Award: We will not make an award exceeding $990,000 for a single budget period of 36 months.

Note: The maximum award is based on a 3-year budget period. Applicants will need to prepare a multiyear budget request for up to 3 years.

Estimated Number of Awards: 5.

Note: The Department is not bound by any estimates in this notice.

Project Period: Up to 36 months.

III. Eligibility Information

1. Eligible Applicants: Eligible applicants are IHEs (as defined in section 101 of the Higher Education Act of 1965, as amended (20 U.S.C. 1001)) that are public or private nonprofit IHEs, and public and private nonprofit organizations and agencies that partner with institutions of higher education.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Supplement-Not-Supplant: This program does not involve supplement-not-supplant funding requirements.

c. Indirect Cost Rate Information: This program uses an unrestricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to entities listed in the grant application.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 60 pages and (2) use the following standards:

• A “page” is 8.5″ x 11″, on one side only, with 1″ margins at the top, bottom, and both sides.

• Double-space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended 60-page limit applies only to the application narrative and does not apply to Part I, the cover sheet; Part II, the budget section, including the narrative budget justification; Part IV, the assurances and certifications; or the one-page abstract. We recommend that any application addressing the priorities include no more than three additional pages for each priority addressed.

Note: The Budget Information-Non-Construction Programs Form (ED 524) Sections A-C are not the same as the narrative response to the Budget section of the selection criteria.

V. Application Review Information

1. Selection Criteria: The following selection criteria for this program are from 34 CFR 75.210. The points assigned to each criterion are indicated in the parentheses next to the criterion. An applicant may earn up to a total of 100 points based on the selection criteria and up to 20 additional points under the competitive preference priorities, for a total score of up to 120 points. All applications will be evaluated based on the selection criteria as follows:

(a) Quality of the project design. (Maximum 20 points)

(1) The Secretary considers the quality of the design of the proposed project. In determining the quality of the design of the proposed project, the Secretary considers the following factors:

(i) The extent to which the proposed project demonstrates a rationale (as defined in this notice). (Up to 5 points)

(ii) The extent to which the design of the proposed project is appropriate to, and will successfully address, the needs of the target population or other identified needs. (Up to 10 points)

(iii) The extent to which the proposed project will establish linkages with other appropriate agencies and organizations providing services to the target population. (Up to 5 points)

(b) Quality of project services. (Maximum 20 points)

(1) The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (Up to 5 points)

(2) In addition, the Secretary considers the following factors:

(i) The extent to which the services to be provided by the proposed project are appropriate to the needs of the intended recipients or beneficiaries of those services. (Up to 5 points)

(ii) The likely impact of the services to be provided by the proposed project on the intended recipients of those services. (Up to 5 points)

(iii) The extent to which the services to be provided by the proposed project involve the collaboration of appropriate partners for maximizing the effectiveness of project services. (Up to 5 points)

(c) Significance. (Maximum 20 points)

(1) The Secretary considers the significance of the proposed project. In determining the significance of the proposed project, the Secretary considers the following factors:

(i) The potential contribution of the proposed project to increased knowledge or understanding of educational problems, issues, or effective strategies. (Up to 10 points)

(ii) The likelihood that the proposed project will result in system change or improvement. (Up to 10 points)

(d) Quality of project personnel. (Maximum 20 points)

(1) The Secretary considers the quality of the personnel who will carry out the proposed project. In determining the quality of project personnel, the Secretary considers the extent to which the applicant encourages applications for employment from persons who are members of groups that have traditionally been underrepresented based on race, color, national origin, gender, age, or disability. (Up to 8 points)

(2) In addition, the Secretary considers the following factors:

(i) The qualifications, including relevant training and experience, of the project director or principal investigator. (Up to 6 points)

(ii) The qualifications, including relevant training and experience, of key project personnel. (Up to 6 points)

(e) Quality of the management plan. (Maximum 10 points)

(1) The Secretary considers the quality of the management plan for the proposed project. In determining the quality of the management plan, the Secretary considers the following factors:

(i) The adequacy of the management plan to achieve the objectives of the proposed project on time and within budget, including clearly defined responsibilities, timelines, and milestones for accomplishing project tasks. (Up to 5 points)

(ii) How the applicant will ensure that a diversity of perspectives are brought to bear in the operation of the proposed project, including those of parents, teachers, the business community, a variety of disciplinary and professional fields, recipients or beneficiaries of services, or others, as appropriate. (Up to 5 points)

(f) Quality of the project evaluation. (Maximum 10 points)

(1) The Secretary considers the quality of the evaluation to be conducted of the proposed project. In determining the quality of the evaluation, the Secretary considers the following factors:

(i) The extent to which the goals, objectives, and outcomes to be achieved by the proposed project are clearly specified and measurable. (Up to 5 points)

(ii) The extent to which the methods of evaluation are thorough, feasible, and appropriate to the goals, objectives, and outcomes of the proposed project. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

For this competition, a panel of up to three non-Federal reviewers will read, prepare a written evaluation of, and score all eligible applications using the selection criteria and the competitive preference priorities, if applicable, in this notice. The individual scores of the reviewers will be added and the sum divided by the number of reviewers to determine the peer review score. The Department may use more than one tier of reviews in evaluating grantees. The Department will prepare a rank order list of applications based solely on the evaluation of their quality according to the selection criteria and competitive preference priority points.

Tiebreaker: In the event there are two or more applications with the same final score, and there are insufficient funds to fully support each of these applications, the Department will apply the following procedure to determine which application or applications will receive an award:

First Tiebreaker: The first tiebreaker will be the highest average score for the selection criterion “Quality of the Project Design.” If a tie remains, the second tiebreaker will be utilized.

Second Tiebreaker: The second tiebreaker will be the highest average score for the selection criterion “Quality of Project Services.” If a tie remains, the 3rd tiebreaker will be utilized.

Third Tiebreaker: The third tiebreaker will be the highest average score for the selection criterion “Significance.” If a tie remains, the fourth tiebreaker will be utilized.

Fourth Tiebreaker: The fourth tiebreaker will be the highest average score for the selection criterion “Quality of the Project Evaluation.” If a tie remains, the fifth tiebreaker will be utilized.

Fifth Tiebreaker: The fifth tiebreaker will be the highest average score for the competitive preference priorities.

Sixth Tiebreaker: The sixth tiebreaker will be to select the application(s) proposed by organizations that work directly with gang-involved youth to help such youth pursue higher education opportunities.

Seventh Tiebreaker: The seventh tiebreaker will be to select the application(s) that propose to serve geographic areas that have been previously underserved by this program.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of the Department reporting under 34 CFR 75.110, the following performance measures will be used in assessing the effectiveness of the TGIY program:

(a) Number of project participants enrolled in a postsecondary education program.

(b) Number of project participants earning a certificate, degree, or other credential.

(c) Number of project participants active in internships, apprenticeships, or other work experiences.

These measures constitute the Department's indicators of success for this program. Consequently, we advise an applicant for an award under this program to give careful consideration to the operationalization of the measures in conceptualizing the approach and evaluation for its proposed project.

If funded, you will be required to collect and report data in your project's annual performance report (34 CFR 75.590).

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2023-10625 Filed 5-17-23; 8:45 am]

BILLING CODE 4000-01-P